ENVIRONMENTAL PROTECTION AGENCY

[FRL-8180-5]

Request for Nominations to the National and Governmental Advisory Committees to the U.S. Representative to the Commission for Environmental Cooperation

AGENCY: Environmental Protection Agency (EPA).

ACTION: Notice of request for nominations.

SUMMARY: The U.S. Environmental Protection Agency (EPA) is inviting nominations of qualified candidates to be considered for appointment to fill vacancies on the National Advisory Committee (NAC) and the Governmental Advisory Committee (GAC) to the U.S. Representative to the Commission for Environmental Cooperation (CEC). Vacancies on these two committees are expected to be filled by November, so we encourage nominations to be submitted by July 14, 2006.

ADDRESSES: Submit nominations to: Oscar Carrillo, Designated Federal Officer, Office of Cooperative Environmental Management, U.S. Environmental Protection Agency (1601-E), 1200 Pennsylvania Avenue, NW., Washington, DC 20004.

FOR FURTHER INFORMATION CONTACT: Oscar Carrillo, Designated Federal Officer, U.S. Environmental Protection Agency (1601-E), Washington, DC 20004; telephone (202) 233-0072; fax (202) 233-0060; e-mail carrillo.oscar@epa.gov.

SUPPLEMENTARY INFORMATION: The National Advisory Committee and the Governmental Advisory Committee advise the EPA Administrator in his capacity as the U.S. Representative to the CEC Council. The Committees are authorized under Articles 17 and 18 of the North American Agreement on Environmental Cooperation (NAAEC), the North American Free Trade Agreement (NAFTA) Implementation Act, Public Law 103-182, and as directed by Executive Order 12915, entitled “Federal Implementation of the North American Agreement on Environmental Cooperation.” The Committees are responsible for providing advice to the United States Representative on a wide range of strategic, scientific, technological, regulatory and economic issues related to implementation and further elaboration of the (NAAEC). The National Advisory Committee consists of 12 representatives from environmental groups and non-profit entities, business and industry, and educational institutions. The Governmental Advisory Committee consists of 12 representatives from state, local, and tribal governments. Members are appointed by the EPA Administrator for a two-year term with the possibility of reappointment. The Committees usually meet 3 times annually and the average workload for Committee members is approximately 10 to 15 hours per month. Members serve on the Committees in a voluntary capacity. However, EPA provides reimbursement for travel expenses associated with official government business. The following criteria will be used to evaluate nominees:

• Extensive professional knowledge of the subjects the Committees examine, including trade and the environment, the NAFTA, the NAAEC, and the CEC.

• Represent a sector or group that is involved in the issues the Committees evaluate.

• Senior-level experience that fills a need on the Committees for their particular expertise.

• A demonstrated ability to work in a consensus building process with a wide range of representatives from diverse constituencies.

Nominees will also be considered with regard to the mandates of the Federal Advisory Committee Act that require the Committees to maintain diversity across a broad range of constituencies, sectors, and groups. Nominations for membership must include a cover letter and a resume describing the professional and educational qualifications of the nominee and the nominee's current business address and daytime telephone number.

Dated: May 16, 2006.
Oscar Carrillo,
Designated Federal Officer.

[FR Doc. E6-8724 Filed 6-5-06; 8:45 am]

BILLING CODE 6560-50-P